FEDERAL RETIREMENT THRIFT INVESTMENT BOARD

Notice of Board Meeting

DATES: August 24, 2021 at 10:00 a.m.

ADDRESSES: Telephonic. Dial-in (listen only) information: Number: 1-415-527-5035, Code: 199 981 0184; or via web: https://tspmeet.webex.com/tspmeet/onstage/g.php?MTID=ec2075faccae9511e93ed59f66aef58ec.

FOR FURTHER INFORMATION CONTACT: Kimberly Weaver, Director, Office of External Affairs, (202) 942-1640.

SUPPLEMENTARY INFORMATION:

Board Meeting Agenda

Open Session

1. Approval of the July 27, 2021 Board Meeting Minutes

2. Monthly Reports

(a) Participant Activity Report

(b) Investment Report

(c) Legislative Report

3. Quarterly Reports

(d) Metrics

4. FY22 Budget Review and Approval

5. Participant Survey Report

Closed Session

6. Information covered under 5 U.S.C. 552b(c)(9)(B) and 552b(c)(10).

Authority: 5 U.S.C. 552b (e)(1).

Dated: August 12, 2021.
Dharmesh Vashee,
General Counsel, Federal Retirement Thrift Investment Board.

[FR Doc. 2021-17680 Filed 8-17-21; 8:45 am]

BILLING CODE P